DEPARTMENT OF ENERGY

Notice of Availability of Secretarial Determination and Basis for Determination for Closure of the H-Tank Farm at the Savannah River Site and the High-Level Waste Tank Closure Final Environmental Impact Statement for the Savannah River Site, Supplement Analysis

AGENCY: U.S. Department of Energy.

ACTION: Notice of availability.

SUMMARY: The Department of Energy (DOE) announces the availability of the Secretary's Section 3116 Determination for Closure of H-Tank Farm at the Savannah River Site and the Basis for Section 3116 Determination for Closure of H-Tank Farm at the Savannah River Site (HTF 3116 Basis Document) concerning closure of the H-Tank Farm (HTF) at the Savannah River Site (SRS). Under Section 3116(a) of the Ronald W. Reagan National Defense Authorization Act for Fiscal Year 2005 (NDAA), the Secretary of Energy may, in consultation with the U.S. Nuclear Regulatory Commission (NRC), determine that certain waste from the reprocessing of spent nuclear fuel is not high-level waste if the provisions set forth in Section 3116(a) are satisfied, specifically that the waste: (1) Does not require permanent isolation in a deep geologic repository for spent fuel or high-level radioactive waste; (2) has had highly radioactive radionuclides removed to the maximum extent practical; and (3)(A) does not exceed concentration limits for Class C low-level waste and will be disposed of in compliance with the performance objectives in 10 CFR part 61, subpart C and pursuant to a State approved closure plan or State-issued permit; or (3)(B) exceeds concentration limits for Class C low-level waste but will be disposed of in compliance with the performance objectives of 10 CFR part 61, subpart C; pursuant to a State-approved closure plan or State-issued permit; and pursuant to plans developed by DOE in consultation with the NRC. For the reasons set forth in the HTF 3116 Basis Document, and based on consultation with the NRC, Secretary of Energy Ernest J. Moniz determined (in the Section 3116 Determination for Closure of H-Tank Farm at the Savannah River Site) that the stabilized residuals, tanks, and ancillary structures at closure in the HTF will meet the criteria in Section 3116(a) of the NDAA, are not high-level radioactive waste, and may be disposed of in place.

DOE has also issued the High-Level Waste Tank Closure Final Environmental Impact Statement for the Savannah River Site, Supplement Analysis (Supplement Analysis) which analyzes the potential environmental impacts associated with new information and changes in operations for the tank closure process as applied to the F-Area and H-Area Tank Farms at SRS. Based on this Supplement Analysis, DOE has determined that the proposed actions in the FTF and HTF and the tank closure program do not constitute substantial changes from those evaluated in the original High-Level Waste Tank Closure Final Environmental Impact Statement for the Savannah River Site that are relevant to environmental concerns, or significant new circumstances or information relevant to environmental concerns and bearing on the proposed action, and therefore, no further documentation is necessary under the National Environmental Policy Act.

ADDRESSES: The Secretary's Section 3116 Determination for Closure of H-Tank Farm at the Savannah River Site, the Basis for Section 3116 Determination for Closure of H-Tank Farm at the Savannah River Site and the High-Level Waste Tank Closure Final Environmental Impact Statement for the Savannah River Site, Supplement Analysis are available on the Internet at http://sro.srs.gov/f_htankfarmsdocuments.htm, and are publicly available at the following locations:

District of Columbia

U.S. Department of Energy, Freedom of Information Act, Public Reading Room, 1000 Independence Avenue SW., Room 1G-033, Washington, DC 20585, (202) 586-5955.

South Carolina

University of South Carolina-Aiken, Gregg-Graniteville Library, 471 University Parkway, Aiken, SC 29801, (803) 641-3320.

FOR FURTHER INFORMATION CONTACT: Ms. Sherri Ross, DOE SR, Building 704-S, Room 43, U.S. Department of Energy, Savannah River Operations Office, Aiken, SC 29802 (ATTN: H-Tank Farm Secretarial Determination and Basis), (803) 208-6078.

SUPPLEMENTARY INFORMATION: The HTF is a 45-acre site, located at the SRS near Aiken, South Carolina. The HTF consists of 29 underground radioactive waste storage tanks and supporting ancillary structures. The major HTF ancillary structures are 3 evaporator systems, transfer lines, 8 diversion boxes, 1 catch tank, 2 concentrate transfer systems, 10 pump pits, 9 pump tanks, and 11 valve boxes. There are four waste tank types in HTF with operating capacities ranging from 750,000 gallons (Type I tanks), to 1,030,000 gallons (Type II tanks), to 1,300,000 gallons (Type III/IIIA and Type IV tanks). The waste tanks have varying degrees of secondary containment and in-tank structural features such as cooling coils and columns. All HTF waste tanks are constructed of carbon steel. The HTF was constructed to receive waste generated by various SRS production, processing, and laboratory facilities.

DOE has initiated waste removal and cleaning of tanks and ancillary structures in the HTF using a process that includes removing bulk waste from tanks and ancillary structures and then deploying tested technologies to removing the majority of the remaining waste. After completing cleaning operations, a small amount of residual radioactive waste will remain in the tanks, ancillary equipment and piping. DOE plans to stabilize the residuals in the tanks and certain ancillary structures with grout. Tank waste storage and removal operations in the HTF are governed by a South Carolina Department of Health and Environmental Control (SCDHEC) industrial wastewater operating permit. Removal of tanks from service and stabilization of the HTF waste tanks and ancillary structures will be carried out pursuant to a State-approved closure plan, the Industrial Wastewater General Closure Plan for H-Area Waste Tank Systems. Specific Closure Modules for each tank or ancillary structure or groupings of tanks and ancillary structures will be developed and submitted to SCDHEC for approval. After grouting, the tank/system will be removed from the State's industrial wastewater permit. The HTF 3116 Basis Document applies to stabilized residuals in the waste tanks and ancillary structures, the waste tanks, and ancillary structures in the HTF at the time of closure.

Issued in Washington, DC, on December 19, 2014.
Mark A. Gilbertson,
Deputy Assistant Secretary for Site Restoration.

[FR Doc. 2014-30707 Filed 12-30-14; 8:45 am]

BILLING CODE 6450-01-P